FEDERAL COMMUNICATIONS COMMISSION

[CC Docket No. 92-237; DA 19-38]

Next Meeting of the North American Numbering Council

AGENCY: Federal Communications Commission.

ACTION: Notice.

SUMMARY: In this document, the Commission released a public notice announcing that the meeting of the North American Numbering Council (NANC) originally scheduled for Tuesday, February 5, 2019, is cancelled and rescheduled for Thursday, February 14, 2019, from 3:00 p.m. until 5:00 p.m. At this meeting, which will be conducted by conference call, the NANC will consider a report from its Numbering Administration Oversight Working Group on the referral involving the National Suicide Hotline Improvement Act. The NANC meeting is open to the public. The Commission will also provide audio coverage of the meeting. Other reasonable accommodations for people with disabilities are available upon request. Request for such accommodations should be submitted via email to fcc504@fcc.gov or by calling the Consumer and Governmental Affairs Bureau @(202) 418-0530 (voice) (202) 418-0432 (TTY). Such requests should include a detailed description of the accommodation needed. In addition, please include a way for the FCC to contact the requester if more information is needed to fill the request. Please allow at least five days advance notice for accommodation requests; last minute requests will be accepted but may not be possible to accommodate.

Members of the public may submit comments to the NANC in the FCC's Electronic Comment Filing System, ECFS, at www.fcc.gov/ecfs. Comments to the NANC should be filed in CC Docket No. 92-237.

More information about the NANC is available at https://www.fcc.gov/about-fcc/advisory-committees/general/north-american-numbering-council. You may also contact Marilyn Jones, DFO of the NANC, at Marilyn.jones@fcc.gov, or (202) 418-2357, Michelle Sclater, Alternate DFO, at michelle.sclater@fcc.gov, or (202) 418- 0388; or Carmell Weathers, Special Assistant to the DFO, at carmell.weathers@fcc.gov, or (202) 418-2325.

DATES: Thursday, February 14, 2019, from 3:00 p.m.

ADDRESSES: Requests to make an oral statement or provide written comments to the NANC should be sent to Carmell Weathers, Competition Policy Division, Wireline Competition Bureau, Federal Communications Commission, Portals II, 445 12th Street SW, Room 5-C162, Washington, DC 20554 or emailed to Carmell.Weathers@fcc.gov.

FOR FURTHER INFORMATION CONTACT: Carmell Weathers at (202) 418-2325 or Carmell.Weathers@fcc.gov. The fax number is: (202) 418-1413. The TTY number is: (202) 418-0484.

SUPPLEMENTARY INFORMATION: This is a summary of the Commission's document in CC Docket No. 92-237, DA 19-38 released February 1, 2019. The complete text in this document is available for public inspection and copying during normal business hours in the FCC Reference Information Center, Portals II, 445 12th Street SW, Room CY-A257, Washington, DC 20554. The document may also be purchased from the Commission's duplicating contractor, Best Copy and Printing, Inc., 445 12th Street SW, Room CY-B402, Washington, DC 20554, telephone (800) 378-3160 or (202) 863-2893, facsimile (202) 863-2898, or via the internet at http://www.bcpiweb.com. It is available on the Commission's website at http://www.fcc.gov.

This notice is being published less than 15 calendar days before the meeting for good cause and due to exigent circumstances. Specifically, this committee meeting was previously scheduled for February 5, 2019 but that meeting had to be cancelled due to uncertainty about when the Government shutdown would end. There is important committee business that needs to be completed expeditiously, and rescheduling the meeting for February 14 will ensure that the meeting is held during the period in which the agency will have appropriated funding.

*The Agenda may be modified at the discretion of the NANC Chairman with the approval of the Designated Federal Officer (DFO).

Federal Communications Commission.
Marilyn Jones,
Senior Counsel for Number Administration, Wireline Competition Bureau.

[FR Doc. 2019-01725 Filed 2-8-19; 8:45 am]

BILLING CODE 6712-01-P